DEPARTMENT OF ENERGY

Federal Energy Regulatory Commission

Combined Notice of Filings #1

Take notice that the Commission received the following electric rate filings:

Docket Numbers: ER11-3697-000.

Applicants: Southern California Edison Company.

Description: Informational Filing of Formula Transmission Rate 2014 Annual Update of Southern California Edison Company.

Filed Date: 11/26/13.

Accession Number: 20131126-5195.

Comments Due: 5 p.m. ET 12/16/13.

Docket Numbers: ER13-298-002.

Applicants: New York Independent System Operator, Inc.

Description: NYISO compliance filing tariff revision on Market Mitigation to be effective 9/25/2013.

Filed Date: 12/3/13.

Accession Number: 20131203-5137.

Comments Due: 5 p.m. ET 12/24/13.

Docket Numbers: ER13-1346-000.

Applicants: Mesa Wind Power Corporation.

Description: Mesa Wind Power Corporation submits Mesa Wind Refund Report 12.4.2013 to be effective N/A.

Filed Date: 12/4/13.

Accession Number: 20131204-5049.

Comments Due: 5 p.m. ET 12/26/13.

Docket Numbers: ER14-206-002.

Applicants: Midcontinent Independent System Operator, Inc.

Description: 2013-12-03 Appendix A SOC Revs to be effective 12/28/2013.

Filed Date: 12/3/13.

Accession Number: 20131203-5084.

Comments Due: 5 p.m. ET 12/24/13.

Docket Numbers: ER14-209-001.

Applicants: PowerOne Corporation.

Description: Amendment to MBR Application to be effective 11/28/2013.

Filed Date: 12/3/13.

Accession Number: 20131203-5162.

Comments Due: 5 p.m. ET 12/24/13.

Docket Numbers: ER14-382-001.

Applicants: Cheyenne Light, Fuel and Power Company.

Description: Cheyenne Light, Fuel and Power Company submits Order No. 764 Compliance Filing Amendment to be effective 12/4/2013.

Filed Date: 12/4/13.

Accession Number: 20131204-5069.

Comments Due: 5 p.m. ET 12/26/13.

Docket Numbers: ER14-517-000.

Applicants: Arizona Public Service Company.

Description: Amendment to APS RS No. 259, WAPA Bouse Switchyard Construction Agreement to be effective 12/31/2013.

Filed Date: 12/3/13.

Accession Number: 20131203-5099.

Comments Due: 5 p.m. ET 12/24/13.

Docket Numbers: ER14-518-000.

Applicants: Powerex Corp.

Description: Amendment to Powerex FERC Rate Schedule No. 1 to be effective 12/3/2013.

Filed Date: 12/3/13.

Accession Number: 20131203-5100.

Comments Due: 5 p.m. ET 12/24/13.

Docket Numbers: ER14-519-000.

Applicants: Astral Energy LLC.

Description: Astral Energy Market Based Rate Tariff to be effective 1/15/2014.

Filed Date: 12/3/13.

Accession Number: 20131203-5134.

Comments Due: 5 p.m. ET 12/24/13.

Docket Numbers: ER14-520-000.

Applicants: Ivanpah Master Holdings, LLC.

Description: Ivanpah Master Holdings, LLC submits Cancellation of MBR Tariff to be effective 12/5/2013.

Filed Date: 12/4/13.

Accession Number: 20131204-5029.

Comments Due: 5 p.m. ET 12/26/13.

Docket Numbers: ER14-521-000.

Applicants: Southwest Power Pool, Inc.

Description: Southwest Power Pool, Inc. submits Service Agreement Mass Cancellation Filing—Group #1 to be effective 12/1/2013.

Filed Date: 12/4/13.

Accession Number: 20131204-5035.

Comments Due: 5 p.m. ET 12/26/13.

Docket Numbers: ER14-522-000.

Applicants: Southwest Power Pool, Inc.

Description: Southwest Power Pool, Inc. submits Service Agreement Mass Cancellation Filing—Group #2 to be effective 12/1/2013.

Filed Date: 12/4/13.

Accession Number: 20131204-5037.

Comments Due: 5 p.m. ET 12/26/13.

Docket Numbers: ER14-523-000.

Applicants: Southwest Power Pool, Inc.

Description: Southwest Power Pool, Inc. submits Service Agreement Mass Cancellation Filing—Group #3 to be effective 12/1/2013.

Filed Date: 12/4/13.

Accession Number: 20131204-5041.

Comments Due: 5 p.m. ET 12/26/13.

Docket Numbers: ER14-524-000.

Applicants: Southwest Power Pool, Inc.

Description: Southwest Power Pool, Inc. submits Service Agreement Mass Cancellation Filing—Group #4 to be effective 12/1/2013.

Filed Date: 12/4/13.

Accession Number: 20131204-5042.

Comments Due: 5 p.m. ET 12/26/13.

Docket Numbers: ER14-525-000.

Applicants: ISO New England Inc., New England Power Pool Participants Committee.

Description: ISO New England Inc. submits Rev. Related to FA for Non-Commercial Capacity in the FCM to be effective 3/28/2014.

Filed Date: 12/4/13.

Accession Number: 20131204-5045.

Comments Due: 5 p.m. ET 12/26/13.

Docket Numbers: ER14-526-000.

Applicants: Southwest Power Pool, Inc.

Description: Southwest Power Pool, Inc. submits Service Agreement Mass Cancellation Filing—Group #5 to be effective 12/1/2013.

Filed Date: 12/4/13.

Accession Number: 20131204-5047.

Comments Due: 5 p.m. ET 12/26/13.

Docket Numbers: ER14-527-000.

Applicants: Green Current Solutions, LLC.

Description: Green Current Solutions, LLC submits Green Current Solutions Market Based Rate Tariff to be effective 1/20/2014.

Filed Date: 12/4/13.

Accession Number: 20131204-5048.

Comments Due: 5 p.m. ET 12/26/13.

Docket Numbers: ER14-528-000.

Applicants: Southwest Power Pool, Inc.

Description: Southwest Power Pool, Inc. submits Service Agreement Mass Cancellation Filing—Group #6 to be effective 12/1/2013.

Filed Date: 12/4/13.

Accession Number: 20131204-5050.

Comments Due: 5 p.m. ET 12/26/13.

Docket Numbers: ER14-529-000.

Applicants: Southwest Power Pool, Inc.

Description: Southwest Power Pool, Inc. submits Service Agreement Mass Cancellation Filing—Group #7 to be effective 12/1/2013.

Filed Date: 12/4/13.

Accession Number: 20131204-5053.

Comments Due: 5 p.m. ET 12/26/13.

Docket Numbers: ER14-530-000.

Applicants: Southwest Power Pool, Inc.

Description: Southwest Power Pool, Inc. submits Service Agreement Mass Cancellation Filing—Group #8 to be effective 12/1/2013.

Filed Date: 12/4/13.

Accession Number: 20131204-5054.

Comments Due: 5 p.m. ET 12/26/13.

Docket Numbers: ER14-531-000.

Applicants: Southwest Power Pool, Inc.

Description: Southwest Power Pool, Inc. submits Service Agreement Mass Cancellation Filing—Group #9 to be effective 12/1/2013.

Filed Date: 12/4/13.

Accession Number: 20131204-5057.

Comments Due: 5 p.m. ET 12/26/13.

Docket Numbers: ER14-532-000.

Applicants: Southwest Power Pool, Inc.

Description: Southwest Power Pool, Inc. submits Service Agreement Mass Cancellation Filing—Group #10 to be effective 12/1/2013.

Filed Date: 12/4/13.

Accession Number: 20131204-5060.

Comments Due: 5 p.m. ET 12/26/13.

Docket Numbers: ER14-533-000.

Applicants: Arizona Public Service Company.

Description: Arizona Public Service Company submits Schedule No. 217—Raceway—Exhibit B.RWY, Revision No. 6 to be effective 2/3/2014.

Filed Date: 12/4/13.

Accession Number: 20131204-5061.

Comments Due: 5 p.m. ET 12/26/13.

Docket Numbers: ER14-534-000.

Applicants: Arizona Public Service Company.

Description: Arizona Public Service Company submits Rate Schedule No. 217—Gila-Gila Valley—Exhibit B.GLA.GLV, Revision No. 2 to be effective 2/3/2014.

Filed Date: 12/4/13.

Accession Number: 20131204-5062.

Comments Due: 5 p.m. ET 12/26/13.

Docket Numbers: ER14-535-000.

Applicants: Alcoa Power Generating Inc.

Description: Alcoa Power Generating Inc. submits OATT Order Nos. 764 and 784 Compliance Filing to be effective 12/5/2013.

Filed Date: 12/4/13.

Accession Number: 20131204-5095.

Comments Due: 5 p.m. ET 12/26/13.

Take notice that the Commission received the following electric reliability filings:

Docket Numbers: RR13-9-002.

Applicants: North American Electric Reliability Corporation.

Description: North American Electric Reliability Corporation's Filing of Corrected Appendix 2 to its 2014 Business Plan and Budget under RR13-9.

Filed Date: 12/3/13.

Accession Number: 20131203-5185.

Comments Due: 5 p.m. ET 12/24/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 4, 2013.
Nathaniel J. Davis, Sr.,
Deputy Secretary.

[FR Doc. 2013-29570 Filed 12-11-13; 8:45 am]

BILLING CODE 6717-01-P